FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Approval Coordination of Requirements to use the NETC for Extracurricular Training Activities.

Type of Information Collection: Reinstatement, with change of a previously approved collection for which approval has expired.

OMB Number: 3067-0219.

Abstract: Data will be obtained from special groups that request to use the NETC facilities for extracurricular training activities. Extracurricular training is training over the above regularly scheduled training sessions of the National Fire Academy (NFA) and Emergency Management Institute (EMI). The policy of the NETC is to accommodate other training activities on a space-available basis on the Emmitsburg campus. In order for the NETC to approve and schedule the use of its facilities, information must be provided from special group organizations. A written, email or telephone request for use of NETC facilities is initially made to determine availability of the facilities.

Affected Public: Not-for-profit institutions, Federal Government, State, Local or Tribal Government, individuals or households, business or other for-profit.

Number of Respondents: 1200.

Estimated Time per Respondent: FEMA Form 75-10, 6 minutes; FEMA Form 75-11, 12 minutes.

Estimated Total Annual Burden Hours: 130 hours.

Frequency of Response: Annually.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW., Room 316, Washington, DC 20472. Telephone number (202) 646-2625. FAX number (202) 646-3524 or email muriel.anderson@fema.gov.

Dated: August 7, 2000.
Reginald Trujillo,
Director, Program Services Division, Operations Support Directorate.

[FR Doc. 00-21178 Filed 8-18-00; 8:45 am]

BILLING CODE 6718-01-P